DEPARTMENT OF COMMERCE

National Oceanic and Atmospheric Administration

RIN 0648-XG197

Caribbean Fishery Management Council; Public Meeting

AGENCY: National Marine Fisheries Service (NMFS), National Oceanic and Atmospheric Administration (NOAA), Commerce.

ACTION: Notice of a public webinar meeting.

SUMMARY: The Caribbean Fishery Management Council's (Council) Scientific and Statistical Committee (SSC) will hold a one-day webinar meeting to address the Council's Terms of Reference contained in the agenda in the SUPPLEMENTARY INFORMATION.

DATES: The meeting will be held on May 29, 2018, from 8 a.m. to 5 p.m., Eastern Standard Time.

ADDRESSES: You may join the SSC Webinar meeting from a computer, tablet or smartphone by entering the following address: https://global.gotomeeting.com/join/374054789. You can also dial in using your phone. United States: +1 (408) 650-3123, Access Code: 374-054-789. If joining from a video-conferencing room or system dial 67.217.95.2##374054789 Cisco devices: 374054789@67.217.95.2.

The meeting may be extended from, or completed prior to the time established in this notice.

FOR FURTHER INFORMATION CONTACT: Caribbean Fishery Management Council, 270 Muñoz Rivera Avenue, Suite 401, San Juan, Puerto Rico 00918-1903; telephone: (787) 766-5926.

SUPPLEMENTARY INFORMATION: The agenda will consist of the discussion of the following Terms of Reference:

1. Confirm the landings year sequence to be used to calculate the sustainable yield level (SYL) for Puerto Rico recreational jacks;

2. Clarify the process for calculating SYL and acceptable biological catch (ABC) for stock complexes with two indicator species (Tier 4a);

3. Finalize indicator species selection for Grouper Unit 5 and Snapper Unit 3 in St. Croix and for Grouper Unit 4 in St. Thomas/St. John;

4. Reconsider tier assignment for Grouper Unit 4 (St. Thomas/St. John) and Grouper Unit 5 (St. Croix) presently assigned to Tier 4b;

5. Reconsider ad hoc ABC for St. Croix queen conch;

6. Determine whether to use the alternative year sequences for St. Croix and St. Thomas/St. John proposed by the Southeast Fisheries Science Center (Tiers 4a and 4b);

7. For each stock/complex included in Tier 4b, a) establish scalar for determining SYL, and b) finalize scientific uncertainty buffer for SYL to ABC;

8. Clarify whether to include an additional buffer reduction to account for scientific uncertainty resulting from the reallocation of unspecified landings (Tiers 4a and 4b);

9. Address the Council's directive to remove additional reductions proposed by the SSC to be applied to the SYL for ecologically important species; and

10. Address the summary report from the February/March 2018 SSC meeting

This webinar meeting will be chaired by Dr. Richard Appeldoorn and moderated by Atty. Jocelyn D'Ambrosio.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone: (787) 766-5926, at least 5 days prior to the meeting date.

Dated: May 7, 2018.
Tracey L. Thompson,
Acting Deputy Director, Office of Sustainable Fisheries, National Marine Fisheries Service.

[FR Doc. 2018-09951 Filed 5-9-18; 8:45 am]

BILLING CODE 3510-22-P